DEPARTMENT OF THE INTERIOR

National Park Service

[NPS-WASO-NAGPRA-NPS0035192; PPWOCRADN0-PCU00RP14.R50000]

Notice of Inventory Completion: Vassar College, Poughkeepsie, NY

AGENCY: National Park Service, Interior.

ACTION: Notice.

SUMMARY: In accordance with the Native American Graves Protection and Repatriation Act (NAGPRA), Vassar College has completed an inventory of human remains and has determined that there is a cultural affiliation between the human remains and Indian Tribes or Native Hawaiian organizations in this notice. The human remains were removed from Maui County, HI.

DATES: Repatriation of the human remains in this notice may occur on or after March 1, 2023.

ADDRESSES: Brian Daly, Vassar College, 124 Raymond Avenue, Poughkeepsie, NY 12604, telephone (845) 437-5310, email brdaly@vassar.edu.

SUPPLEMENTARY INFORMATION: This notice is published as part of the National Park Service's administrative responsibilities under NAGPRA. The determinations in this notice are the sole responsibility of Vassar College. The National Park Service is not responsible for the determinations in this notice. Additional information on the determinations in this notice, including the results of consultation, can be found in the inventory or related records held by Vassar College.

Description

Human remains representing, at minimum, four individuals were removed from Maalaea, Maui County, HI. During the 1920s, these human remains (030 Box; 380 Box; 577; Mandible 9) were acquired by Vassar College's Natural History and Social Museums. Following the Museums' dissolution in the 1960s, the human remains were acquired by the Anthropology and Biology Departments. Human remains located in the Biology and Anthropology Department teaching collections were examined for visual and statistical markers of Native American affinities, and the results were reported on December 21, 2020. On October 3, 2022, Uluwehi K. Cashman identified the individuals listed in this notice as Native Hawaiians from the Island of Maalaea, Maui, Hawaii. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, kinship, linguistic, oral traditional, and expert opinion.

Determinations

Pursuant to NAGPRA and its implementing regulations, and after consultation with the appropriate Indian Tribes and Native Hawaiian organizations, Vassar College has determined that:

• The human remains described in this notice represent the physical remains of four individuals of Native American ancestry.

• There is a relationship of shared group identity that can be reasonably traced between the human remains described in this notice and the Hui Iwi Kuamo'o.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 1, 2023. If competing requests for repatriation are received, Vassar College must determine the most appropriate requestor prior to repatriation. Requests for joint repatriation of the human remains are considered a single request and not competing requests. Vassar College is responsible for sending a copy of this notice to the Native Hawaiian organization identified in this notice.

Authority: Native American Graves Protection and Repatriation Act, 25 U.S.C. 3003, and the implementing regulations, 43 CFR 10.9, 10.10, and 10.14.

Dated: January 18, 2023.
Melanie O'Brien,
Manager, National NAGPRA Program.

[FR Doc. 2023-01844 Filed 1-27-23; 8:45 am]

BILLING CODE 4312-52-P